DEPARTMENT OF HEALTH AND HUMAN SERVICES

National Institutes of Health

National Institute on Deafness and Other Communication Disorders; Amended Notice of Meeting

Notice is hereby given of a change in the meeting of the National Deafness and Other Communication Disorders Advisory Council, January 26, 2018, 08:30 a.m. to January 26, 2018, 02:00 p.m., National Institutes of Health, Building 31, 31 Center Drive, Conference Room 6, Bethesda, MD 20892 which was published in the Federal Register on December 15, 2017, 82.

The meeting will be held as a teleconference due to the government shutdown and only essential business will be discussed. The time of the meeting is 10 a.m. to 12:30 p.m. The meeting is closed to the public.

Dated: January 25, 2018.
Sylvia L. Neal,
Program Analyst, Office of Federal Advisory Committee Policy.

[FR Doc. 2018-01824 Filed 1-30-18; 8:45 am]

BILLING CODE 4140-01-P